DEPARTMENT OF ENERGY

Federal Energy Regulatory Commission

Notice of Request To Use Alternative Procedures in Preparing a Licenses Application

October 25, 2000.

Take notice that the following request to use alternative procedures to prepare a license application has been filed with the Commission.

a. Type of Application: Request to use alternative procedures to prepare a license application has been filed with the Commission.

b. Project Nos.: P-2146, P-2146, P-82, P-618, and P-2165.

c. Date filed: September 22, 2000.

d. Applicant: Alabama Power Company.

e. Name of Projects: Coosa River Project, Mitchell Project, Jordan Project, and Warrior River Projects, collectively called the Coosa-Warrior Projects.

f. Location: On the Coosa and Warrior Rivers, in Cherokee, Etowah, Calhoun, St. Clair, Talladega, Chilton, Coosa, Shelby, Elmore, Walker, Winston, Cullman, and Tuscaloosa Counties, Alabama and Floyd County, Georgia. The Warrior River Project occupies federal lands within the Bankhead National Forest.

g. Filed Pursuant to: Federal Power Act, 16 U.S.C. 791(a)-825(r).

h. Applicant Contacts: Jim Crew, Relicensing Project Manager, Alabama Power Company, 600 North 18th Street, Birmingham, AL 35291, (205) 257-4265 or Barry Lovett Project Manager, Alabama Power Company, 600 North 18th Street, Birmingham, AL35291, (205) 257-1268.

i. FERC Contact: Ronald McKitrick at (770) 452-3778; e-mail ronald.mckitrick@ferc.fed.us.

j. Deadline for Comments: 30 days from the date of this notice. Project No. 2146, et al.

All documents (original and eight copies) should be filed with: David P. Boergers, Secretary, Federal Energy Regulatory Commission, 888 First Street, NE., Washington, DC 20426. Beginning November 1, 2000, comments and protests may be filed electronically via the internet in lieu of paper. See, 18 CFR 385.2001(a)(1)(iii) and the instructions on the Commission's web site at http;//www.ferc.fed.us/efi/doorbell.htm.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. The existing Coosa River Project consists of five developments (Weiss, Neely Henry, Logan Martin, Lay, Bouldin) with a total rated capacity of 705.78 MW, Lay and Bouldin operate principally as run-of-river the other three as peaking projects. The Mitchell Project has a rated capacity of 170 MW and operates run-of-river. The Jordan Project has a rated capacity of 100 MW and operates principally as run-of-river. The Jordan Project has a rated capacity of 100 MW and operates principally as run-of-river. The Warrior River Projects consists of two developments (Lewis Smith and Bankhead) with a total rated capacity of 210 MW, Lewis Smith is a peaking project and Bankhead operates principally as run-of-river.

l. Alabama Power Company (APC) has demonstrated that it has made an effort to contact all federal and state resources agencies, non-governmental organizations (NGO), and others affected by the project. APC has also demonstrated that a consensus exists that the use of alternative procedures is appropriate in this case. APC has submitted a communications protocol that is supported by the stakeholders.

The purpose of this notice is to invite any additional comments on Alabama Power Company's request to use the alternative procedures, pursuant to Section 4.34(i) of Commission's regulations. Additional notices seeking comments on the specific project proposal, interventions and protests, and recommended terms and conditions will be issued at a later date. APC will complete and file a preliminary Environmental Assessment, in lieu of Exhibit E of the license application. This differs from the traditional process, in which an applicant consults with agencies, Indian tribes, NGOs, and other parties during preparation of the license application and before filing the application, but the Commission staff performs the environmental review after the application is filed. The alternative procedures are intended to simplify and expedite the licensing process by combining the pre-filing consultation and environmental review processes into a single process, to facilitate greater participation, and to improve communication and cooperation among the participants.

Alabama Power Company has met within federal and state resources agencies, NGOs, elected officials, environmental groups, business and economic development organizations, and members of the public regarding the Coosa-Warrior projects. APC intends to file 6-month progress reports during the alternative procedures process that leads to the filing of a license application by July, 2005.

David P. Boergers,
Secretary.

[FR Doc. 00-27851 Filed 10-30-00; 8:45 am]

BILLING CODE 6717-01-M